DEPARTMENT OF TRANSPORTATION

Federal Aviation Administration

14 CFR Part 71

[Airspace Docket No. 01-AWP-29]

Amendment of Honolulu Class E5 Airspace Area Legal Description

AGENCY: Federal Aviation Administration (FAA) DOT.

ACTION: Final rule.

SUMMARY: This rule amends the legal description of the Honolulu International Airport Class E5 airspace area. The amended description replaces all references to Naval Air Station (NAS) Barbers Point with Kalaeloa, John Rogers Field.

EFFECTIVE DATE: 0901 UTC, February 21, 2002.

FOR FURTHER INFORMATION CONTACT: Debra Trindle, Airspace Specialist, Airspace Branch, AWP-520.10, Air Traffic Division, Western-Pacific Region, Federal Aviation Administration, 15000 Aviation Boulevard, Lawndale, California 90261, telephone (310) 725-6613.

SUPPLEMENTARY INFORMATION:

History

In 1999, the United States Navy vacated NAS Barbers Point under the mandates of the Base Realignment and Closure Act. The airport was renamed Kalaeloa, John Rogers Field on September 9, 1999. The existing legal description for the Honolulu International Airport Class E5 airspace area still refers to NAS Barbers Point. This rule amends that description to reflect the correct name of Kalaeloa, John Rogers Field. It does not change the dimensions, configuration, or operating requirements of the affected airspace.

Class E5 airspace is published in Paragraph 6005 of FAA Order 7400.9J, Airpsace Designations and Reporting Points, dated August 31, 2001 and effective September 16, 2002, which is incorporated by reference in 14 CFR 71.1. The Class E5 airspace designation listed in this document would be published subsequently in this Order.

The Rule

This amendment to 14 CFR part 71 of the Federal Aviation Regulations amend the Class E5 airspace for Honolulu.

The FAA has determined that this regulation only involves an established body of technical regulations for which frequent and routine amendments are necessary to keep them operationally current. Therefore, this regulation—(1) is no a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule would not have a significant economic impact on a substantial number of small entities under the criteria of the Regulatory Flexibility Act.

List of Subjects 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6005 Class E airspace areas extending upward from 700 feet or more above the surface of the earth.

* * * * *

AWP HI E5 Honolulu International Airport, HI [Revised]

Honolulu International Airport, HI

(Lat. 21°19′08″ N., long. 157°55′21″ W.)

Kalaeloa John Rogers Field

(Lat. 21°18′21″ N., long. 158°04′20″ W.)

Honolulu VORTAC

(Lat. 21°18′30″ N., long. 157°55′50″W.)

That airspace extending upward from 700 feet above the surface south and southeast of Honolulu International Airport beginning at lat. 21°20′19″ N., long. 157°51′05″ W., thence south to lat. 21°15′19″ N., long. 157°49′05″ W., thence east along the shoreline to where the shoreline intercepts the Honolulu VORTAC 15-mile radius, then clockwise along the 15-mile radius of the Honolulu VORTAC to intercept the Honolulu VORTAC 241° radial, then northeast bound along the Honolulu VORTAC 241° radial to intercept the 4.3-mile radius south of Kalaeloa John Rogers Field, then counterclockwise along the arc of the 4.3-mile radius of Kalaeloa John Rogers Field to and counterclockwise along the arc of a 5-mile radius of the Honolulu VORTAC to the Honolulu VORTAC 106° radial, then westbound along the Honolulu 106° radial to the 4-mile radius of the Honolulu VORTAC, then counterclockwise along the 4-mile radius to intercept the Honolulu VORTAC 071° radial, thence to the point of beginning and that airspace beginning at lat. 21°10′25″ N., long. 158°11′22″ W., to lat. 21°16′05″ N., long. 158°14′35″ W.; to lat. 21°16′30″ N., long. 158°13′46″ W.; to lat. 21°16′50″ N., long. 158°00′00″ W., to the point of beginning.

* * * * *

Issued in Los Angeles, California, on November 14, 2001.
Dawna J. Vicars,
Acting Manager, Air Traffic Division, Western-Pacific Region.

[FR Doc. 02-862 Filed 1-30-02; 8:45 am]

BILLING CODE 4910-13-M